DEPARTMENT OF THE INTERIOR

Office of the Secretary

Proposed Appointment to the National Indian Gaming Commission

ACTION: Notice.

SUMMARY: The Indian Gaming Regulatory Act provides for a three-person National Indian Gaming Commission. One member, the chairman, is appointed by the President with the advice and consent of the Senate. Two associate members are appointed by the Secretary of the Interior. Before appointing members, the Secretary is required to provide public notice of a proposed appointment and allow a comment period. Notice is hereby given of the proposed appointment of Steffani A. Cochran as an associate member of the National Indian Gaming Commission for a term of 3 years.

DATES: Comments must be received before November 12, 2009.

ADDRESSES: Comments should be submitted to the Director, Office of Executive Secretariat, United States Department of the Interior, 1849 C Street, NW., Mail Stop 7229, Washington, DC 20240.

FOR FURTHER INFORMATION CONTACT: John A. Strylowski, Executive Secretariat, United States Department of the Interior, 1849 C Street, NW., Mail Stop 7229, Washington, DC 20240; telephone 202-208-3071.

SUPPLEMENTARY INFORMATION: The Indian Gaming Regulatory Act, 25 U.S.C. 2701 et seq., established the National Indian Gaming Commission (Commission), composed of three full-time members. 25 U.S.C. 2704(b). Commission members serve for a term of 3 years. 25 U.S.C. 2705(b)(2)(4)(A). The Chairman is appointed by the President with the advice and consent of the Senate. 25 U.S.C. 2704(b)(1)(B). The two associate members are appointed by the Secretary of the Interior. 25 U.S.C. 2704(b)(1)(B). Before appointing an associate member to the Commission, the Secretary is required to “publish in the Federal Register the name and other information the Secretary deems pertinent regarding a nominee for membership on the commission and * * * allow a period of not less than thirty days for receipt of public comments.” 25 U.S.C. 2704(b)(2)(B).

The Secretary proposes to appoint Steffani A. Cochran as an associate member of the Commission for a term of 3 years. Ms. Cochran is well qualified to serve as a member of the Commission, by virtue of her broad background in the law and her work for both State and tribal governments on issues affecting Indian tribes. Her extensive legal experience includes service in New Mexico State government as a Special Counsel for Indian Affairs and as an Administrative Law Judge for the State of Oregon. She has also served tribal governments as General Counsel for the Pueblo of Pojoaque and as an Associate Judge for the Isleta Tribal Court and judge pro tem on the Southwest Intertribal Court of Appeals. Working at different times for tribal and State governments, Ms. Cochran has participated in negotiations and addressed issues of critical importance to both constituencies. She is a member of the Chickasaw Nation. Ms. Cochran does not have any financial interests that would make her ineligible to serve on the Commission under 25 U.S.C. 2704(b)(5)(B) or (C).

Any person wishing to submit comments on this proposed appointment of Steffani Cochran may submit written comments to the address listed above. Comments must be received by November 12, 2009.

David Hayes,
Deputy Secretary.

[FR Doc. E9-24617 Filed 10-9-09; 8:45 am]

BILLING CODE 4310-17-P